DEPARTMENT OF LABOR

Employment and Training Administration

Agency Information Collection Activities; Comment Request; Form ETA-232, Domestic Agricultural In-Season Wage Report, and Form-232A, Wage Survey Interview Record

ACTION: Notice.

SUMMARY: The Department of Labor's (DOL's) Employment and Training Administration (ETA) is soliciting comments concerning a proposed extension for the authority to conduct the information collection request (ICR) titled, “Form ETA-232, Domestic Agricultural In-Season Wage Report, and Form-232A, Wage Survey Interview Record.” This comment request is part of continuing Departmental efforts to reduce paperwork and respondent burden in accordance with the Paperwork Reduction Act of 1995 (PRA).

DATES: Consideration will be given to all written comments received by January 27, 2020.

ADDRESSES: A copy of this ICR with applicable supporting documentation, including a description of the likely respondents, proposed frequency of response, and estimated total burden, may be obtained free by contacting Thomas M. Dowd, Deputy Assistant Secretary by telephone at 202-513-7350 (this is not a toll-free number), TTY 1-877-889-5627 (this is not a toll-free number), or by email at ETA.OFLC.Forms@dol.gov.

Submit written comments about, or requests for a copy of, this ICR by mail or courier to the U.S. Department of Labor, Employment and Training Administration, Office of Foreign Labor Certification, 200 Constitution Avenue NW, Box PPII 12-200, Washington, DC 20210; by email: ETA.OFLC.Forms@dol.gov; or by Fax 202-513-7395.

FOR FURTHER INFORMATION CONTACT: Thomas M. Dowd, Deputy Assistant Secretary, Office of Foreign Labor Certification, by telephone at 202-513-7350 (this is not a toll-free number) or by email at ETA.OFLC.Forms@dol.gov.

Authority: 44 U.S.C. 3506(c)(2)(A).

SUPPLEMENTARY INFORMATION: DOL, in its continuing efforts to reduce paperwork and respondent burden, conducts a pre-clearance consultation program to provide the general public and Federal agencies an opportunity to comment on proposed and/or continuing collections of information before submitting them to the Office of Management and Budget (OMB) for final approval. This program helps ensure requested data can be provided in the desired format, reporting burden (time and financial resources) is minimized, collection instruments are clearly understood, and the impact of collection requirements can be properly assessed.

This information collection is required under 8 U.S.C. 1188, which authorizes DOL to administer the H-2A temporary agricultural program, and Section 218 of the Immigration and Nationality Act (INA), which authorizes the lawful admission into the United States of nonimmigrant workers (H-2A workers) to perform agricultural labor or services of a temporary or seasonal nature. In order for DOL to certify that there are not sufficient U.S. workers qualified and available to perform the labor involved in the petition and that the employment of the foreign worker will not have an adverse effect on the wages and working conditions of similarly employed U.S. workers, employers must demonstrate the need for a specific number of H-2A workers. The section of law authorizing DOL to collect information for OMB control number 1205-0017 is the Wagner-Peyser Act at 29 U.S.C 49(f). Specifically, Congress appropriates funding through the Wagner-Peyser allocations under the State Unemployment Insurance Employment Service Operation Provisions, to meet certain obligations mandated by the INA.

DOL's Office of Foreign Labor Certification (OFLC), within ETA, is responsible for administering the H-2A program, which requires the filing of temporary labor certification applications by employers seeking to use nonimmigrant workers in agricultural work. DOL's H-2A program regulations issued, under the Immigration Reform and Control Act of 1986 for the temporary employment of nonimmigrant agricultural and logging workers in the United States, 20 CFR part 655, subpart B, require employers to pay “at least the [adverse effect wage rate], the prevailing hourly wage rate, the prevailing piece rate, the agreed-upon collective bargaining rate, or the Federal or State minimum wage rate, in effect at the time the work is performed, whichever is highest[.]” To determine prevailing wages, State Workforce Agencies (SWA) either formally survey employers' wages or conduct “ad hoc” wage surveys. In addition, DOL's H-2A program regulations require that “[e]ach job qualification and requirement listed in the [H-2A] job offer . . . be bona fide and consistent with the normal and accepted qualifications required by employers that do not use H-2A workers in the same or comparable occupation and crops.” To determine whether certain working conditions meet these standards, SWAs collect information by either formally surveying employers' prevailing practices or by conducting “ad hoc” surveys. DOL uses Form ETA-232, which the SWA completes according to its survey of information from employers on Form ETA-232A, to collect information that will permit DOL to establish and publish H-2A program prevailing wages and prevailing practices.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0017.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

Agency: DOL-ETA.

Type of Review: Extension Without Changes.

Title of Collection: Form ETA-232, Domestic Agricultural In-Season Wage Report, and Form 232A, Wage Survey Interview Record.

OMB Control Number: 1205-0017.

Affected Public: Private Sector (businesses or other for-profit institutions, farms), Not-for-profit Institutions, Federal Government, and State, Local, and Tribal governments.

Estimated Number of Respondents:

Form ETA-232A—SWA Interviews of Employer: 9,600.

Form ETA-232—SWA Completion: 400.

Prevailing Practice Surveys—SWA Interviews of Employer: 4,120.

Prevailing Practice Surveys—SWA Completion: 206.

Frequency: On Occasion.

Total Estimated Number of Annual Responses: 14,326.

Estimated Average Time per Response: Varies.

Estimated Total Annual Burden Hours: 8,963 hours.

Total Estimated Annual Other Costs Burden: $0.

John Pallasch,
Assistant Secretary for Employment and Training.

[FR Doc. 2019-25615 Filed 11-25-19; 8:45 am]

BILLING CODE 4510-FP-P